EXPORT-IMPORT BANK

Notice of Open Meeting of the Sub-Saharan Africa Advisory Committee of the Export-Import Bank of the United States (EXIM)

Time and Date: Monday, October 21, 2019 from 10:00 a.m. until 11:30 a.m. (EDT).

Place: 811 Vermont Avenue NW, Room 1125B, Washington, DC 20571.

Agenda: Discussion of EXIM Bank policies and programs designed to support the expansion of financing support for U.S. manufactured goods and services in Sub-Saharan Africa.

Public Participation: The meeting will be open to public participation and time will be set aside for oral questions or comments. Members of the public may also file written statement(s) before or after the meeting. If you plan to attend, a photo ID must be presented at the guard's desk as part of the clearance process into the building. You may contact India Walker at external@exim.gov to be placed on the attendee list. If any person wishes auxiliary aids (such as a sign language interpreter) or other special accommodations, please email India Walker at external@exim.gov no later than 5:00 p.m. EDT on Thursday, October 17, 2019.

Members of the Press: For members of the press planning to attend the meeting, a photo ID must be presented at the guard's desk as part of the clearance process into the building. Please email external@exim.gov to be placed on the attendee list.

Further Information: For further information, contact the Office of External Engagement at external@exim.gov.

Joyce Stone,
Program Specialist, Office of the General Counsel.

[FR Doc. 2019-21946 Filed 10-7-19; 8:45 am]

BILLING CODE 6690-01-P